DEPARTMENT OF DEFENSE

Office of the Secretary

[Transmittal No. 19-65]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-65 with attached Policy Justification and Sensitivity of Technology.

Dated: December 19, 2019.
Aaron T. Siegel,
Alternate OSD Federal Register Liaison Officer, Department of Defense.

BILLING CODE 5001-06-P

BILLING CODE 5001-06-C

Transmittal No. 19-65

Notice of Proposed Issuance of Letter of Offer Pursuant to Section 36(b)(1) of the Arms Export Control Act, as amended

(i) Prospective Purchaser: Government of Japan

(ii) Total Estimated Value:

Major Defense Equipment * | $2.4 billion
Other | $2.1 billion
TOTAL | $4.5 billion

(iii) Description and Quantity or Quantities of Articles or Services under Consideration for Purchase: The Government of Japan is requesting the upgrade of up to ninety-eight (98) F-15J aircraft to a Japanese Super Interceptor (JSI) configuration. The proposed sale will be a hybrid Foreign Military Sale (FMS) and Direct Commercial Sale (DCS). The first phase of this program will consist of upgrade design, development, modification, training, support, and testing of the first two (2) F-15J test aircraft resulting in an upgraded JSI configuration. The follow-on production phase will incorporate JSI upgrade kits to modernize up to ninety-six (96) additional F-15J aircraft.

Major Defense Equipment (MDE): One hundred three (103) APG-82(v)1 Active Electronically Scanned Array (AESA) Radar (includes 5 spares)

One hundred sixteen (116) Advanced Display Core Processor II (ADCP II) Mission System Computer (includes 18 spares)

One hundred one (101) ALQ-239 Digital Electronic Warfare System (DEWS) (includes 3 spares)

Non-MDE: Also included are Joint Mission Planning System (JMPS) with software, training and support; Selective Availability Anti-spoofing Module (SAASM); ARC-210 Radio, aircraft and munition integration and test support; support and test equipment; software delivery and support; spare and repair parts; communications equipment; facilities and construction support; publications and technical documentation; personnel training and training equipment; U.S. Government and contractor engineering; technical and logistics support services; studies and surveys; and other related elements of logistical and program support.

(iv) Military Department: Air Force (JA-D-QES)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: October 29, 2019

*As defined in Section 47(6) of the Arms Export Control Act.

POLICY JUSTIFICATION

Japan—F-15J Modernization

The Government of Japan has requested the upgrade of up to ninety-eight (98) F-15J aircraft to a Japanese Super Interceptor (JSI) configuration consisting of up to one hundred three (103) APG-82(v)1 Active Electronically Scanned Array (AESA) Radar (includes 5 spares); one hundred sixteen (116) Advanced Display Core Processor II (ADCP II) Mission System Computer (includes 18 spares); and one hundred one (101) ALQ-239 Digital Electronic Warfare System (DEWS) (includes 3 spares). Also included are Joint Mission Planning System (JMPS) with software, training and support; Selective Availability Anti-spoofing Module (SAASM); ARC-210 radio, aircraft and munition integration and test support; ground training devices (including flight and maintenance simulators); support and test equipment; software delivery and support; spare and repair parts; communications equipment; facilities and construction support; publications and technical documentation; personnel training and training equipment; U.S. Government and contractor engineering; technical and logistics support services; studies and surveys; and other related elements of logistical and program support. The estimated total program cost is $4.5 billion.

This proposed sale will support the foreign policy goals and national security objectives of the United States by improving the security of a major ally that is a force for political stability, and economic progress in the Asia-Pacific region. It is vital to U.S. national interest to assist Japan in developing and maintaining a strong and effective self-defense capability.

This proposed sale will provide Japan a critical air defense capability to assist in defending the Japanese homeland and U.S. personnel stationed there. Modernized F-15J assets will better enable Japan to respond to airborne threats and defend its airspace. Japan will have no difficulty absorbing this equipment and support into its armed forces.

The proposed sale of this equipment and support will not alter the basic military balance in the region.

The prime contractor for the FMS portion will be Boeing Aircraft Company, Everett, WA. The prime contractor for the DCS portion will be Mitsubishi Heavy Industries (MHI) with Boeing being a sub-contractor in supporting integration of the FMS and DCS elements. There are no known offset agreements proposed in connection with this potential sale.

Implementation of this sale will require the assignment of one U.S. Government representative in Japan.

There will be no adverse impact on U.S. defense readiness as a result of this proposed sale.

Transmittal No. 19-65

Notice of Proposed Issuance of Letter of Offer Pursuant to Section 36(b)(1) of the Arms Export Control Act

Annex

Item No. vii

(vii) Sensitivity of Technology:

1. The proposed sale will be a hybrid Foreign Military Sales (FMS) and Direct Commercial Sales (DCS) case involving the release of sensitive technology to the Government of Japan related to modernizing its F-15J fleet. The F-15J aircraft is a twinengine all-weather air superiority fighter aircraft in service since 1980 and built under license in Japan by Mitsubishi Heavy Industries. Previous upgrades were carried out under the Multi-Stage Improvement Program (MSIP). The first phase of this program will consist of upgrade design, development, modification, training, support, and testing of the first two (2) F-15J test aircraft resulting in an upgraded Japanese Super Interceptor (JSI) configuration. The follow-on production phase will incorporate JSI upgrade kits to modernize up to ninety-six (96) additional F-15J aircraft.

2. The AN/APG-82(V)l is an Active Electronically Scanned Array (AESA) radar upgrade for the F-15. It includes higher processor power, higher transmission power, more sensitive receiver electronics, and Synthetic Aperture Radar (SAR), which creates higher-resolution ground maps from a greater distance than existing mechanically scanned array radars. The upgrade features an increase in detection range of air targets, increases in processing speed and memory, as well as significant improvements in all modes.

3. The AN/ALQ-239 Digital Electronic Warfare Suite (DEWS) provides passive radar warning, wide spectrum RF jamming, and control and management of the entire DEWS system. This system is designed as an internal suite largely comprised of commercial off-the-shelf (COTS) technology.

4. Advanced Display Core Processor II (ADCP II) is the mission processor for the F-15 managing the overall mission functions for the aircraft. The ADCP II controls the aircraft's avionics and provides data for the cockpit displays. It contains multiple core processors enabling rapid processing of data and is connected to aircraft systems by redundant MIL-STD-1553 buses and Ethernet interfaces.

5. If a technologically advanced adversary were to obtain knowledge of the specific hardware or software in the proposed sale, the information could be used to develop counter-measures, which might reduce weapons system effectiveness or be used in the development of a system with similar or advanced capabilities.

6. The sensitive technology being released under this notification is subject to the security criteria established in National Disclosure Policy (NDP-1) for the Government of Japan. This sale is necessary in furtherance of the U.S. foreign policy and national security objectives outlined in the Policy Justification.

7. All defense articles and services listed in this transmittal have been authorized for release and export to Japan.

[FR Doc. 2019-27977 Filed 12-26-19; 8:45 am]

BILLING CODE 5001-06-P